DEPARTMENT OF TRANSPORTATION

Federal Aviation Administration

Thirty Third RTCA SC-213 Enhanced Flight Vision Systems/Synthetic Vision Systems (EFVS/SVS) Joint Plenary With EUROCAE Working Group 79

AGENCY: Federal Aviation Administration (FAA), U.S. Department of Transportation (DOT).

ACTION: Thirty Third RTCA SC-213 Enhanced Flight Vision Systems/Synthetic Vision Systems (EFVS/SVS) Joint Plenary with EUROCAE Working Group 79.

SUMMARY: The FAA is issuing this notice to advise the public of a meeting of Thirty Third RTCA SC-213 Enhanced Flight Vision Systems/Synthetic Vision Systems (EFVS/SVS) Joint Plenary with EUROCAE Working Group 79.

DATES: The meeting will be held May 10-12, 2017 from 9:30 a.m.-6:00 p.m.

ADDRESSES: The meeting will be held at: EUROCAE Facilities, “Le Triangle” building, 9-23 rue Paul Lafargue, 93200 Saint-Denis, France.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Thirty Third RTCA SC-213 Enhanced Flight Vision Systems/Synthetic Vision Systems (EFVS/SVS) Joint Plenary with EUROCAE Working Group 79. The agenda will include the following:

Wednesday, May 10, 2017, 9:30 a.m.-6:00 p.m.

Plenary Discussion

1. Introductions and administrative items

2. DFO statement

3. Review and approve minutes from last full plenary meeting

4. Review of terms of reference and update work product dates

5. RTCA presentation on the FRAC process

6. WG1, WG2, WG3 and WG4 status updates

7. Industry updates

8. Working group discussion

Thursday May 11, 2017, 9:30 a.m.-6:00 p.m.

1. Plenary discussion

2. Working group discussions

Friday, May 12, 2017, 9:30 a.m.-3:00 p.m.

1. Working group discussion

2. Administrative items (new meeting location/dates, action items etc.)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 3, 2017.
Mohannad Dawoud,
Management & Program Analyst, Partnership Contracts Branch, ANG-A17 NextGen, Procurement Services Division, Federal Aviation Administration.

[FR Doc. 2017-09287 Filed 5-5-17; 8:45 am]

BILLING CODE 4910-13-P